DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency (FEMA), as part of its continuing effort to reduce paperwork and respondent burden, invites the general public and other agencies to take this opportunity to comment on a proposed revision of a currently approved information collection. In accordance with the Paperwork Reduction Act of 1995 (44 U.S.C. 3506(c)(2)(A)), this notice seeks comments concerning the sale of mobile homes to eligible disaster applicants at prices that are fair and equitable.

SUPPLEMENTARY INFORMATION: Public Law 93-288, as amended by Section 408 of the Robert T. Stafford Disaster Relief and Emergency Assistance Act (Pub. L. 100-707), authorizes the FEMA to provide temporary housing assistance to victims of federally declared disasters. This type of assistance could be in the form of mobile homes, travel trailers, or other readily fabricated dwelling. In the event this assistance is used, and other alternate housing is not available; the law provides for the sale of mobile homes to eligible disaster applicants at prices that are fair and equitable. A provision has been made which includes a formula for adjustments in the sale price when there is a need to purchase the unit as a primary residence because all other housing resources have been exhausted. This provision also takes into account that in addition to the purchaser's own resources, he/she cannot obtain sufficient funds through insurance proceeds, disaster loans, grants, and commercial lending institutions to cover the sales price.

Collection of Information

Title: Request for Loan Information Verification.

Type of Information Collection: Revision of a currently approved collection.

OMB Number: 1660-0012.

Form Numbers: FEMA Form 90-68, Request for Loan Information Verification.

Abstract: FEMA uses FEMA Form 90-68 to obtain information from disaster victims who want to purchase a mobile home and lending institutions to determine a fair and equitable sales price of a mobile home to a disaster victim. The ability to borrow money commercially is an important factor in determining the final sales price.

Affected Public: Individuals or Households and Business or Other For Profit.

Number of Respondents: 375. (Applicants—125 + Lenders—250).

Frequency of Response: On Occasion. (Applicants—2 forms per submission; lenders—one form per submission).

Hours Per Response: 10 minutes. (Applicants—5 minutes; Lenders—5 minutes).

Estimated Total Annual Burden Hours: 42 hours.

Estimated Cost: The cost estimated for respondents is approximately $0.88 to complete and mail the form back to FEMA. The annual cost to respondents is estimated to be $0.88 × 500 responses = $440 annual cost.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, U.S. Department of Homeland Security, 500 C Street, SW., Room 316, Washington, DC 20472, or e-mail address: InformationCollections@fema.gov.

FOR FURTHER INFORMATION CONTACT: Contact David L. Porter, Program Specialist, Recovery Division at (202) 646-3883 or Carl Hallstead at (202) 646-3654 for additional information. You may contact Ms. Anderson for copies of the proposed collection of information at facsimile number (202) 646-3347 or at the above e-mail address.

Dated: September 15, 2003.
Edward W. Kernan,
Division Director, Information Resources Management Division, Information Technology Services Directorate.

[FR Doc. 03-24125 Filed 9-18-03; 12:01 pm]

BILLING CODE 6718-01-P